DEPARTMENT OF JUSTICE

Federal Bureau of Investigation

[OMB Number 1110-0009]

Agency Information Collection Activities: Proposed Collection, Comments Requested

ACTION: 60-Day Notice of Information Collection Under Review: Revision of a currently approved collection, Analysis of Law Enforcement Officers Killed and Assaulted

The Department of Justice, Federal Bureau of Investigation, Criminal Justice Information Services Division has submitted the following information collection request to the Office of Management and Budget (OMB) for review and clearance in accordance with established review procedures of the Paperwork Reduction Act of 1995. The proposed information collection is published to obtain comments from the public and affected agencies. Comments are encouraged and will be accepted until March 6, 2007.

This process is conducted in accordance with 5 CFR 1320.10.

All comments, suggestions, or questions regarding additional information, to include obtaining a copy of the proposed information collection instrument with instructions, should be directed to Mr. Gregory E. Scarbro, Unit Chief, Federal Bureau of Investigation, Criminal Justice Information Services (CJIS) Division, Module E-3, 1000 Custer Hollow Road, Clarksburg, WV 26306, or facsimile to (304) 625-3566.

Written comments and suggestions from the public and affected agencies concerning the proposed collection of information are encouraged. Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of this information collection:

(1) Type of information collection: Revision of a currently approved collection.

(2) The title of the form/collection: Analysis of Law Enforcement Officers Killed and Assaulted.

(3) The agency form number, if any, and the applicable component of the department sponsoring the collection: Form 1-701; Criminal Justice Information Services Division, Federal Bureau of Investigation, Department of Justice.

(4) Affected public who will be asked or required to respond, as well as a brief abstract: Primary: City, county, State, Federal, and tribal law enforcement agencies. This report will gather specific incident data obtained from law enforcement agencies in which an officer was feloniously or accidentally killed in the line of duty; information is also collected on this form when any officer sustains injury from a firearm or knife or other cutting instrument. Officer killed data are published annually in the publication Law Enforcement Officers Killed and Assaulted. Serious assault data are presented as separate topic papers.

(5) An estimate of the total number of respondents and the amount of time estimated for an average respondent to respond: There are approximately 275 law enforcement agency respondents; calculated estimates indicate 1 hour per report.

(6) An estimate of the total public burden (in hours) associated with this collection:There are approximately 275 hours, annual burden, associated with this information collection.

If additional information is required contact: Ms. Lynn Bryant, Department Clearance Officer, Information Management and Security Staff, Justice Management Division, United States Department of Justice, Patrick Henry Building, Suite 1600, 601 D Street, NW., Washington, DC 20530.

Dated: December 28, 2006.
Lynn Bryant,
Department Clearance Officer, United States Department of Justice.

[FR Doc. E6-22562 Filed 1-4-07; 8:45 am]

BILLING CODE 4410-02-P